DEPARTMENT OF COMMERCE

International Trade Administration

[A-533-897, A-557-821]

Utility Scale Wind Towers From India and Malaysia: Postponement of Preliminary Determinations in the Less-Than-Fair-Value Investigations

AGENCY: Enforcement and Compliance, International Trade Administration, Department of Commerce.

DATES: Applicable March 12, 2021.

FOR FURTHER INFORMATION CONTACT: Terre Keaton Stefanova at (202) 482-1280 (India) and Jerry Huang at (202) 482-4047 (Malaysia), AD/CVD Operations, Enforcement and Compliance, International Trade Administration, U.S. Department of Commerce, 1401 Constitution Avenue NW, Washington, DC 20230.

SUPPLEMENTARY INFORMATION:

Background

On November 9, 2020, the Department of Commerce (Commerce) initiated less-than-fair-value (LTFV) investigations of imports of utility scale wind towers from India and Malaysia.¹ Currently, the preliminary determinations are due no later than March 29, 2021.

¹ See Utility Scale Wind Towers from India, Malaysia, and Spain: Initiation of Less-Than-Fair-Value Investigations, 85 FR 73023 (November 16, 2020).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 26, 2021, the Wind Tower Trade Coalition (the petitioner) submitted a timely request that Commerce postpone the preliminary determinations in these LTFV investigations.² The petitioner stated that it requested postponement to allow Commerce to fully analyze comments recently filed by the petitioner and to continue to collect and analyze necessary information so that the preliminary determinations will reflect the most accurate results possible.³

² See Petitioner's Letter, “Utility Scale Wind Towers from India: Request for Postponement of Preliminary Determination,” dated February 26, 2021; see also Petitioner's Letter, “Utility Scale Wind Towers from Malaysia: Request for Postponement of Preliminary Determination,” dated February 26, 2021.

³ Id.

For the reasons stated above and because there are no compelling reasons to deny the requests, Commerce, in accordance with section 733(c)(1)(A) of the Act, is postponing the deadline for the preliminary determinations for India and Malaysia by 50 days (i.e., 190 days after the date on which these investigations were initiated). As a result, Commerce will issue its preliminary determinations no later than May 18, 2021. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: March 5, 2021.
Christian Marsh,
Acting Assistant Secretary for Enforcement and Compliance.

[FR Doc. 2021-05187 Filed 3-11-21; 8:45 am]

BILLING CODE 3510-DS-P